ENVIRONMENTAL PROTECTION AGENCY

[EPA-HQ-OPP-2015-0374; FRL-9944-96]

Pesticide Experimental Use Permit; Receipt of Application; Comment Request

AGENCY: Environmental Protection Agency (EPA).

ACTION: Notice.

SUMMARY: This notice announces EPA's receipt of an application (88877-EUP-2) from the University of Kentucky's Department of Entomology requesting an amendment and extension to an already existing experimental use permit (EUP) for Wolbachia pipientis, wAlbB Strain. EPA has determined that the permit may be of regional or national significance. Therefore, because of the potential significance, EPA is seeking comments on this application.

DATES: Comments must be received on or before May 26, 2016.

ADDRESSES: Submit your comments, identified by docket identification (ID) number EPA-HQ-OPP-2015-0374, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html. Additional instructions on commenting or visiting the docket, along with more information about dockets generally, is available at http://www.epa.gov/dockets.

FOR FURTHER INFORMATION CONTACT: Robert McNally, Biopesticides and Pollution Prevention Division (7511P), Office of Pesticide Programs, Environmental Protection Agency, 1200 Pennsylvania Ave. NW., Washington, DC 20460-0001; main telephone number: (703) 305-7090; email address: BPPDFRNotices@epa.gov.

SUPPLEMENTARY INFORMATION:

I. General Information

A. Does this action apply to me?

This action is directed to the public in general. Although this action may be of particular interest to those persons who conduct or sponsor research on pesticides, EPA has not attempted to describe all the specific entities that may be affected by this action.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low income populations, in the development, implementation, and enforcement of environmental laws, regulations, and policies. To help address potential environmental justice issues, EPA seeks information on any groups or segments of the population who, as a result of their location, cultural practices, or other factors, may have atypical or disproportionately high and adverse human health impacts or environmental effects from exposure to the pesticide discussed in this document, compared to the general population.

II. What action is EPA taking?

Under section 5 of the Federal Insecticide, Fungicide, and Rodenticide Act (FIFRA), 7 U.S.C. 136c, EPA can allow manufacturers to field test pesticides under development. Manufacturers are required to obtain an EUP before testing new pesticides or new uses of pesticides if they conduct experimental field tests on 10 acres or more of land or one acre or more of water.

Pursuant to 40 CFR 172.11(a), EPA has determined that the following EUP application may be of regional or national significance, and therefore is seeking public comment on the EUP application:

Submitter: University of Kentucky, Department of Entomology, S-225 Agricultural Science Center North, Lexington, KY 40546-0091, (88877-EUP-2).

Pesticide Chemical: Wolbachia pipientis, wAlbB Strain.

Summary of Request: The University of Kentucky's Department of Entomology has proposed to continue to field test a new strain of Wolbachia pipientis (wAlbB Strain) to determine its pesticidal value for suppression and elimination of Aedes aegypti, a mosquito that vectors some human diseases, e.g., chikungunya, dengue, and Zika viruses. Under the currently approved EUP, the University of Kentucky is authorized to release and monitor 2,400,000 male Aedes aegypti WB1 Strain mosquitoes that contain the pesticidal active ingredient Wolbachia pipientis, wAlbB Strain (5.672 × 10⁻⁵ ounce) in Fresno County, California in 2015 and 2016 over 840 acres. The University of Kentucky has requested to amend and extend this EUP by adding sites in Orange County, California and Monroe County, Florida (Florida Keys) in 2016 and 2017 and by continuing testing in Fresno County, California in 2017. Up to 12,000,000 additional male Aedes aegypti WB1 Strain mosquitoes containing Wolbachia pipientis, wAlbB Strain (28.36 × 10⁻⁵ ounce) are proposed to be released and up to 748.3 additional acres (includes point-source release and surveillance/monitoring acreage) will be involved in testing in 2016 and 2017. The released male mosquitoes are expected to mate with indigenous female mosquitoes, causing conditional sterility and resulting in population decline and potential elimination. Adult and egg collection data from the treated areas will be compared to data from control sites to evaluate the effect of the pesticide on mosquito populations. (Note: Male mosquitoes, which the University of Kentucky is releasing or proposing to release, do not bite humans and feed on nectar to survive.)

Following the review of the application and any comments and data received in response to this solicitation, EPA will decide whether to amend and extend or deny the EUP request, and if amended and extended, the conditions under which it is to be conducted. Any amendment and extension of the EUP will be announced in the Federal Register.

Authority: 7 U.S.C. 136 et seq.

Dated: April 18, 2016.
Mark A. Hartman, Acting
Director, Biopesticides and Pollution Prevention Division, Office of Pesticide Programs.

[FR Doc. 2016-09745 Filed 4-25-16; 8:45 am]

BILLING CODE 6560-50-P